DEPARTMENT OF TRANSPORTATION

Office of the Secretary

[Docket No.: DOT-OST-2016-0203]

Advisory Committee on Automation in Transportation

AGENCY: Office of the Secretary, U.S. Department of Transportation (DOT).

ACTION: Notice of establishment of the Advisory Committee on Automation in Transportation (ACAT) and solicitation of nominations for membership.

SUMMARY: Pursuant to Section 9(a)(2) of the Federal Advisory Committee Act (FACA), and in accordance with Title 41, Code of Federal Regulations, Section 102-3.65, and following consultation with the Committee Management Secretariat, General Services Administration, notice is hereby given that the ACAT will be established for a 2-year period.

It is the policy of the U.S. Department of Transportation to foster the safe deployment of advanced automated and connected vehicle technologies to achieve national goals while also understanding the long term societal and ethical impacts that these technological advancements may impose. Within that context, the objective of this committee is to provide information, advice, and recommendations to the U.S. Secretary of Transportation on cross-modal matters relating to the development and deployment of automated vehicles and assess the state of Departmental research, policy and regulatory support within this framework. The committee may convene and determine topics and is assembled around subject areas related to transportation aspects including the safety, mobility, environmental sustainability, maintaining state of good repair, human impact, data use and cybersecurity.

The ACAT shall undertake information gathering activities, develop technical advice, and present recommendations to the Secretary to further inform this policy, including—but not limited to—aviation automated navigation systems technologies, unmanned aircraft systems, automated and connected road and transit vehicle technologies, enhanced freight movement technologies, railroad automated technologies, and advanced technology deployment in surface transportation environments. In particular, the ACAT will perform these activities as they may relate to emerging or “not-yet-conceived” innovations to ensure DOT is prepared when disruptive technologies emerge and can better manage long term evolution of training and education, regulation, and safety oversight. The ACAT shall consider these topics and areas of application as they alleviate or exacerbate challenges to disabled and disadvantaged populations.

Additionally, the establishment of the ACAT is necessary for the Department to carry out its mission and in the public interest. The Committee will operate in accordance with the provisions of the Federal Advisory Committee Act and the rules and regulations issued in implementation of that Act.

This notice also requests nominations for members of the Committee to ensure a wide range of member candidates and a balanced committee. The Under Secretary for Transportation may also make nominations to the Secretary to ensure balance on the committee.

DATES: The deadline for nominations for Committee members must be received on or before November 4, 2016.

ADDRESSES: All nomination materials should be emailed to automation@dot.gov or faxed to the attention of John Augustine at (202) 366-0263, or mailed to John Augustine, U.S. Department of Transportation, Office of the Secretary Office of Policy, Room W84-306, 1200 New Jersey Avenue SE., Washington, DC 20590. Any person needing accessibility accommodations should contact John Augustine at (202) 366-0353.

FOR FURTHER INFORMATION CONTACT: John Augustine, U.S. Department of Transportation, Office of the Secretary, Office of Policy, Room W84-306, 1200 New Jersey Avenue SE., Washington, DC 20590; phone (202) 366-0353; email: automation@dot.gov.

SUPPLEMENTARY INFORMATION: The Department of Transportation is hereby soliciting nominations for members of the ACAT. The Secretary of Transportation will appoint at least 15 Committee members. Members will be selected with a view toward achieving varied perspectives on automated transportation, including but not limited to (1) modes of transportation; (2) regional representation; (3) relevant policy areas such as safety, labor, and environment; (4) businesses developing automation technologies; and (5) government bodies. Committee members may serve for a term of 2 years or less and may be reappointed for successive terms, with no more than 2 successive terms. The Chair and Vice Chair of the Committee will be appointed by the Secretary from among the selected members, and the Committee is expected to meet approximately two times per year or as necessary. Subcommittees may be formed to address specific automation-related issues. Some Committee members may be appointed as special Government employees and will be subject to certain ethical restrictions, and such members will be required to submit certain information in connection with the appointment process.

Process and Deadline for Submitting Nominations: Qualified individuals can self-nominate or be nominated by any individual or organization. To be considered for the ACAT, nominators should submit the following information:

(1) Name, title, and relevant contact information (including phone, fax, and email address) of the individual requesting consideration;

(2) A letter of support from a company, union, trade association, academic or non-profit organization on letterhead containing a brief description why the nominee should be considered for membership;

(3) Short biography of nominee including professional and academic credentials;

(4) An affirmative statement that the nominee meets all Committee eligibility requirements. Please do not send company, trade association, or organization brochures or any other information. Materials submitted should total two pages or less. Should more information be needed, DOT staff will contact the nominee, obtain information from the nominee's past affiliations, or obtain information from publicly available sources, such as the Internet.

Nominations may be emailed to automation@dot.gov or faxed to the attention of John Augustine at (202) 366-0263, or mailed to John Augustine, U.S. Department of Transportation, Office of the Secretary Office of Policy, Room W84-306, 1200 New Jersey Avenue SE., Washington, DC 20590. Nominations must be received before November 4, 2016. Nominees selected for appointment to the Committee will be notified by return email and by a letter of appointment.

A selection team comprising representatives from several DOT offices will review the nomination packages. The selection team will make recommendations regarding membership to the Secretary of Transportation based on criteria including (1) professional or academic expertise, experience, and knowledge; (2) stakeholder representation; (3) availability and willingness to serve; and (4) skills working in committees and advisory panels. The Under Secretary of Transportation for Policy will submit a list of recommended candidates to the Secretary of Transportation for review and selection of Committee members.

Nominations are open to all individuals without regard to race, color, religion, sex, national origin, age, mental or physical handicap, marital status, or sexual orientation. To ensure that recommendations to the Secretary take into account the needs of the diverse groups served by DOT, membership shall include, to the extent practicable, individuals with demonstrated ability to represent minorities, women, and persons with disabilities. Please note, however, that federally registered lobbyists and individuals already serving on another Federal advisory committee are ineligible for nomination.

Issued in Washington, DC, on October 13, 2016.
Blair C. Anderson,
Under Secretary of Transportation for Policy.

[FR Doc. 2016-25392 Filed 10-19-16; 8:45 am]

BILLING CODE 4910-9X-P